U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on May 12, 2022 on “China's Activities and Influence in South and Central Asia.”

DATES: The hearing is scheduled for Thursday, May 12, 2022 at 9:30 a.m.

ADDRESSES: This hearing will be held with panelists and Commissioners participating in-person or online via videoconference. Members of the audience will be able to view a live webcast via the Commission's website at www.uscc.gov. Also, please check the Commission's website for possible changes to the hearing schedule. Reservations are not required to attend the hearing.

FOR FURTHER INFORMATION CONTACT: Any member of the public seeking further information concerning the hearing should contact Jameson Cunningham, 444 North Capitol Street NW, Suite 602, Washington DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION: Background: This is the fifth public hearing the Commission will hold during its 2022 report cycle. This hearing will address China's activities and influence in South Asia and Central Asia and the implications for U.S. interests. The hearing will start by examining China's economic goals and security concerns in Pakistan and Afghanistan as well as shifts in China's policy toward the region since the return of Taliban rule in Afghanistan. Next, the hearing will evaluate China's growing presence as an economic and security partner in Central Asia and the implications for the China-Russia relationship. The hearing will then explore China's growing influence in continental South Asia, including how it shapes China-India competition and affects states near the Sino-Indian border such as Nepal, Bhutan, and Bangladesh. Finally, the hearing will examine China's strategic interests and advances in the Indian Ocean, including its economic engagement with Sri Lanka and the Maldives.

The hearing will be co-chaired by Commissioner Carolyn Bartholomew and Commissioner Randall Schriver. Any interested party may file a written statement by May 12, 2022 by transmitting to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: April 20, 2022.
Daniel W. Peck,
Executive Director, U.S.-China Economic and Security Review Commission.

[FR Doc. 2022-08796 Filed 4-25-22; 8:45 am]

BILLING CODE 1137-00-P